NATIONAL AERONAUTICS AND SPACE ADMINISTRATION

[Notice (03-030)]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Tuesday, March 25, 2003, 1 p.m. to 3 p.m. Eastern Standard Time.

ADDRESSES: National Aeronautics and Space Administration Headquarters, Room 6H46, overflow room 3H46, 300 E Street, SW., Washington, DC 20546.

FOR FURTHER INFORMATION CONTACT: Mr. Leonard B. Sirota, Aerospace Safety Advisory Panel Executive Director, Code Q-1, National Aeronautics and Space Administration, Washington, DC 20546, (202) 358-0914.

SUPPLEMENTARY INFORMATION: The Aerospace Safety Advisory Panel will present its annual report to the NASA Administrator. This presentation is pursuant to carrying out its statutory duties for which the Panel reviews, identifies, evaluates, and advises on those program activities, systems, procedures, and management activities that can contribute to program risk. Priority is given to those programs that involve the safety of human flight. The major subjects covered will be: Space Shuttle Program, International Space Station Program, Aviation Safety Program, and Cross-Program Areas. The Aerospace Safety Advisory Panel is currently chaired by Ms. Shirley C. McCarty and is composed of nine members and seven consultants.

The meeting will be open to the public up to the seating capacity of the room, 6H46. Since there will only be 20 seats available in that room, these seats will be assigned to the first 10 members of the public and 10 members of the press to call Ms. Michele Dodson on (202) 358-0914. Those calling after room 6H46 capacity is reached will be seated in room 3H46 where the proceedings will be shown live via video feed. Questions or comments will only be accepted from those seated in the primary room, 6H46. Photograph's will only be permitted during the first 10 minutes of the meeting.

It is imperative that the meeting be held on these dates to accommodate the scheduling priorities of the key participants. Visitors will be requested to sign a visitor's register and asked to comply with NASA security requirements, including the presentation of a valid picture ID before receiving an access badge. Foreign Nationals attending this meeting will be required to provide the following information: full name; gender; date/place of birth; citizenship; Greencard/visa information (number, type, expiration date); passport information (number, country, expiration date); employer/affiliation information (name of institution, address, country, phone); title/position of visitor.

June W. Edwards,
Advisory Committee Management Officer, National Aeronautics and Space Administration.

[FR Doc. 03-5734 Filed 3-10-03; 8:45 am]

BILLING CODE 4510-01-P